DEPARTMENT OF ENERGY

Federal Energy Regulatory Commission

[Docket Nos. ER04-48-000, RT04-01-000, ER04-434-000, ER99-4392-000, and RM01-12-000]

Southwest Power Pool, Inc., Remedying Undue Discrimination Through Open Access Transmission Service and Standard Electricity Market Design; Notice of Technical Conference

February 18, 2004.

Take notice that a technical conference for the Southwest Power Pool, Inc. (SPP) will be held on Friday, March 19, from approximately 9 a.m. to 1 p.m. central standard time at the Hyatt Regency DFW, inside the Dallas/Ft. Worth Airport in Dallas, Texas. Members of the Commission will attend and participate in the discussions.

This conference shall be one in a series of regional technical conferences announced in the White Paper issued in this docket on April 28, 2003. The Commission intends to use this conference to discuss with states and market participants reasonable timetables for RTO development activities to benefit customers within the region.

Individual panelists will be invited to participate in this conference. Further details of the conference, including the agenda, will be specified in a subsequent notice. All interested persons may attend the conference, and registration is not required. However, in-person attendees are encouraged to register on-line at http://www.ferc.gov/whats-new/registration/smd-0319-form.asp.

Transcripts of the conference will be immediately available from Ace Reporting Company (202-347-3700 or 1-800-336-6646) for a fee. They will be available for the public on the Commission's eLibrary system seven calendar days after FERC receives the transcript. Additionally, Capitol Connection offers the opportunity for remote listening of the conference via Real Audio or a Phone Bridge Connection for a fee. Persons interested in making arrangements should contact David Reininger or Julia Morelli at the Capitol Connection (703-993-3100) as soon as possible or visit the Capitol Connection Web site at http://www.capitolconnection.org and click on “FERC.”

For more information about the conference, please contact Sarah McKinley at (202) 502-8004 or sarah.mckinley@ferc.gov.

Magalie R. Salas,
Secretary.

[FR Doc. E4-360 Filed 2-23-04; 8:45 am]

BILLING CODE 6717-01-P